DEPARTMENT OF HOMELAND SECURITY

Coast Guard

33 CFR Part 100

[Docket Number USCG-2025-0023]

RIN 1625-AA08

Special Local Regulation; Duluth Harbor, Duluth, MN

AGENCY: Coast Guard, DHS.

ACTION: Temporary final rule.

SUMMARY: The Coast Guard is establishing a temporary special local regulation for certain waters of the Duluth Harbor entrance to Superior Bay on Lake Superior. This action is necessary to provide for the safety of life on these navigable waters near Duluth, MN during the Festival of Sail 2025 event beginning on July 10, 2025, and ending the evening of July 13, 2025. This regulation prohibits persons and vessels from being in the safety zone unless authorized by the Captain of the Port Duluth or a designated representative.

DATES: This rule is effective from 9 a.m. on July 10, 2025, through 9 p.m. on July 13, 2025.

ADDRESSES: To view documents mentioned in this preamble as being available in the docket, go to https://www.regulations.gov, type USCG-2025-0023 in the search box and click “Search.” Next, in the Document Type column, select “Supporting & Related Material.”

FOR FURTHER INFORMATION CONTACT: If you have questions about this rule, call or email Lieutenant Zachary Fedak, Marine Safety Unit Duluth, U.S. Coast Guard; telephone 218-522-0708, email Zachary.A.Fedak@uscg.mil.

SUPPLEMENTARY INFORMATION:

I. Table of Abbreviations

CFR Code of Federal Regulations

DHS Department of Homeland Security

FR Federal Register

NPRM Notice of proposed rulemaking

§ Section

U.S.C. United States Code

II. Background Information and Regulatory History

On June 27, 2024, an organization notified the Coast Guard that from 9 a.m. on July 10, 2025, though 9 p.m. on July 13, 2025, it will be conducting a Festival of Sail Event in Duluth, MN. In response, on May 21, 2025, the Coast Guard published a notice of proposed rulemaking (NPRM) titled, “Special Local Regulation; Duluth Harbor, Duluth, MN.” ¹ There we stated why we issued the NPRM and invited comments on our proposed regulatory action related to this fireworks display. During the comment period that ended June 6, 2025, we received 1 comment.

¹ 90 FR 21705.

III. Legal Authority and Need for Rule

The Coast Guard is issuing this rule under the authority in 46 U.S.C. 70041. The Captain of the Port (COTP) Duluth has determined that potential hazards associated with the Festival of Sail to on July 10, 2025, through July 13, 2025, will be a safety concern for anyone the parade route and festival grounds. The purpose of this rule is to ensure safety of vessels and the navigable waters in the special local regulation zone before, during, and after the scheduled event.

IV. Discussion of Comments, Changes, and the Rule

As noted above, we received 1 comment on our NPRM which published on May 21, 2025. The comment did not pertain to the proposed rule, the Festival of Sail event, or any aspect of maritime safety or navigation. As such, the comment was deemed unrelated to the proposed rule.

However, we have made two revisions to the regulatory text based on internal review and updated operational planning. First, the coordinates defining the special local regulation zone for the Parade of Sail Area were amended to correct discrepancies identified during chart and geographic verification. Second, the boundaries of the Festival Grounds Area were adjusted to reflect increased dock space availability, allowing for a more accurate delineation of where participating vessels will be moored during the event. These changes are intended to improve clarity, accuracy, and operational effectiveness without altering the purpose or overall impact of the rule.

This rule establishes a temporary special local regulation from 9 a.m. on July 10, 2025, through 9 p.m. on July 13, 2025. The temporary special local regulation will cover all navigable waters encompassed within the staging area and parade route from 9 a.m. to 2 p.m. on July 10, 2025. This will include all waters of Lake Superior and Duluth Harbor bounded by Rice's Point to the west and Duluth to the north, and then within the following boundaries: beginning at position 46°46′36.00″ N, 092°06′07.02″ W; then across Duluth Harbor and following the shoreline toward the Duluth Aerial Lift Bridge; then out the Duluth Harbor Entrance; then northwest and then back to the north Duluth Harbor Entrance; then following the shoreline and turning northwest once beyond the Duluth Aerial Lift Bridge; then crossing the slip; and then back to the starting point. Additionally, the temporary special local regulation will cover all waters in which the tall ships will be moored from 9 a.m. on July 10, 2025, through 9 p.m. on July 13, 2025. The regulated area will cover all waters encompassed by a projection extending out southeast from the dock wall along Harbor Drive and southwest from S Lake Avenue. The regulatory text below provides exact coordinates for the zones. The duration of the regulated area is intended to ensure the safety of vessels and these navigable waters before, during, and after the scheduled Parade of Sail on July 10, 2025, until the conclusion of the Festival of Sail on July 13, 2025. No vessel or person who is not approved prior to the event would be permitted to enter the established zones without obtaining permission from the COTP or a designated representative.

V. Regulatory Analyses

We developed this rule after considering numerous statutes and Executive orders related to rulemaking. Below we summarize our analyses based on a number of these statutes and Executive orders.

A. Regulatory Planning and Review

Executive Orders 12866 (Regulatory Planning and Review) and 13563 (Improving Regulation and Regulatory Review) direct agencies to assess the costs and benefits of available regulatory alternatives and, if regulation is necessary, to select regulatory approaches that maximize net benefits. Executive Order 13563 emphasizes the importance of quantifying both costs and benefits, of reducing costs, of harmonizing rules, and of promoting flexibility.

The Office of Management and Budget (OMB) has not designated this rule a “significant regulatory action,” under section 3(f) of Executive Order 12866. Accordingly, OMB has not reviewed it.

This regulatory action determination is based on the size, location, duration and time of day of the regulated area. Vessel traffic will be able to safely transit around the special local regulation zones by means of the Superior Harbor entrance as an alternate entry into Superior Bay, and by means of the Duluth Harbor entrance after the conclusion of the Parade of Sail at 1 p.m. on July 10, 2025. Additionally, this determination was made based on the limited size and short time frame of the special local regulation, and the estimated number of spectator vessels around the Duluth Harbor entrance for the event. Moreover, the Coast Guard will issue a Broadcast Notice to Mariners via VHF-FM marine channel 16 about the zone, and the rule will allow vessels to seek permission to enter the zone.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received no comments from the Small Business Administration on this rulemaking. The Coast Guard certifies under 5 U.S.C. 605(b) that this rule will not have a significant economic impact on a substantial number of small entities.

While some owners or operators of vessels intending to transit the safety zone may be small entities, for the reasons stated in section V.A above, this rule will not have a significant economic impact on any vessel owner or operator.

Under section 213(a) of the Small Business Regulatory Enforcement Fairness Act of 1996 (Pub. L. 104-121), we want to assist small entities in understanding this rule. If the rule will affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969(42 U.S.C. 4321-4370f), and have determined that this action is one of a category of actions that do not individually or cumulatively have a significant effect on the human environment. This rule involves a special local regulation prohibiting entry within certain zones from 9 a.m. on July 10, 2025, through 9 p.m. on July 13, 2025. It is categorically excluded from further review under paragraph L61 of Appendix A, Table 1 of DHS Instruction Manual 023-01-001-01, Rev. 1. A Record of Environmental Consideration supporting this determination is available in the docket. For instructions on locating the docket, see the ADDRESSES section of this preamble.

List of Subjects in 33 CFR Part 100

Harbors, Marine safety, Navigation (water), Reporting and recordkeeping requirements, Security measures, Waterways.

For the reasons discussed in the preamble, the Coast Guard amends 33 CFR part 100 as follows:

PART 100—SAFETY OF LIFE ON NAVIGABLE WATERS

1. The authority citation for part 100 continues to read as follows:

Authority: 46 U.S.C. 70041; 33 CFR 1.05-1.

2. Add § 100.T09-0023 to read as follows:

§ 100.T09-0023 Special Local Regulation; Festival of Sail Duluth 2025 Parade of Sail, Duluth, MN.

(a) Regulated areas. The regulations in this section apply to the following areas. All geographic coordinates are North American Datum of 1983 (NAD 83).

(1) The Parade of Sail Area. All waters of Lake Superior and Duluth Harbor bounded by Rice's Point to the west and Duluth to the north, within the following boundaries: beginning at position 46°46′36.00″ N, 092°06′07.02″ W, across Duluth Harbor to 46°46′31.98″ N, 092°05′37.98″ W, then following the shoreline toward the Duluth Aerial Lift Bridge to 46°46′42.00″ N, 092°05′33.00″ W, out the Duluth Harbor Entrance to 46°46′58.02″ N, 092°04′36.00″ W, then northwest to 46°47′04.98″ N, 092°04′40.98″ W, back to the north Duluth Harbor Entrance at 46°46′45.00″ N, 092°05′34.98″ W, following the shoreline to 46°46′45.00″ N, 092°05′39.00″ W, then turning northwest to 46°46′52.98″ N, 092°05′45.00″ W, crossing the slip to 46°46′43.02″ N, 092°05′57.00″ W, and running along the shoreline back to the starting point.

(2) The Festival Grounds Area. All waters of Duluth Harbor from starting point 46°46′52.02″ N, 092°05′43.98″ W to 46°46′46.98″ N, 092°05′40.98″ W along the shore; then in a straight line through the water to 46°46′37.98″ N, 092°05′58.02″ W; then in a straight line through the water to the shore to 46°46′40.98″ N, 092°06′01.02″ W; then along the shore to 46°46′52.02″ N, 092°05′46.02″ W; then in a straight line through the water back to the starting point.

(b) Definitions. As used in this section—

Designated representative means a Coast Guard Patrol Commander, including a Coast Guard coxswain, petty officer, or other officer operating a Coast Guard vessel and a Federal, State, and local officer designated by or assisting the Captain of the Port Duluth (COTP) in the enforcement of the regulations in this section.

Participant means all persons and vessels registered with the event sponsor as a participant in the Festival of Sail.

(c) Regulations. (1) All non-participants are prohibited from entering, transiting through, anchoring in, or remaining within the regulated area described in paragraphs (a)(1) and (2) of this section unless authorized by the Captain of the Port (COTP) Duluth or their designated representative.

(2) To seek permission to enter, contact the COTP or the COTP's representative by VHF radio on channel 16. Those in the regulated area must comply with all lawful orders or directions given to them by the COTP or the designated representative.

(3) The COTP will provide notice of the regulated area through advanced notice via Local Notice to Mariners and Broadcast Notice to Mariners. Notice will also be provided by on-scene designated representatives.

(4) Vessels and persons receiving COTP Duluth or on-scene representative authorization to enter the area of this special local regulation must do so in accordance with the following restrictions:

(i) Vessels and persons must transit at a speed not to exceed six (6) knots or at no wake speed, whichever is less. Vessels proceeding under sail will not be allowed in this Area unless also propelled by machinery, due to limited maneuvering ability around numerous other spectator craft viewing the Festival of Sail.

(ii) Vessels and persons will not be permitted to impede the Parade of Sail area from 9 a.m. through 2 p.m. on July 10, 2025, once it has commenced, as the tall ships are extremely limited in their ability to maneuver.

(d) Enforcement period. The Festival Grounds Area will be enforced from 9 a.m. on July 10, 2025, through 9 p.m. on July 13, 2025. The Parade of Sail Area will be enforced from 9 a.m. through 2 p.m. on July 10, 2025.

Dated: June 6, 2025.
John P. Botti,
Commander, U.S. Coast Guard, Captain of the Port, Marine Safety Unit Duluth.

[FR Doc. 2025-10766 Filed 6-12-25; 8:45 am]

BILLING CODE 9110-04-P